ENVIRONMENTAL PROTECTION AGENCY

[ER-FRL-6691-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 6, 2007 (72 FR 17156).

Draft EISs

EIS No. 20070269, ERP No. D-IBR-K39109-CA, Lower Yuba River Accord, Proposal to Resolve Instream Flow Issues Associated with Operation, Yuba River, Yuba County, CA.

Summary: EPA does not object to the proposed project. Rating LO.

EIS No. 20070281, ERP No. D-AFS-D65039-WV, Lower Williams Project Area (LWPA), Proposed to Perform Vegetation Management and Wildlife Habitat Improvements, Implementation, Gauley Ranger District, Monongahela National Forest, Webster County, WV.

Summary: EPA expressed environmental concern about the loss of forest interior habitat, and requested additional information on possible, mitigation measures. Rating EC2.

EIS No. 20070304, ERP No. D-USN-D11042-VA, Marine Corps Base Quantico (MCBQ) Virginia Project, Proposes Development of the Westside of MCBQ and the 2005 Base Realignment and Closure Action at MCBQ, Implementation, Quantico, VA.

Summary: EPA expressed environmental concern about impacts to wetlands and forested habitat, and requested additional information and mitigation measures. EPA also suggested that Low Impact Development and energy efficiency practices be incorporated into the design of the proposed action. Rating EC2.

Final EISs

EIS No. 20070334, ERP No. F-AFS-J65360-CO, Lizard Head Road Easement, Application from Private Landowners Requesting a Permit to Cross Public Lands to Access Non-Federal Lands, San Juan National Forest, Dolores Ranger District, Dolores County, CO.

Summary: No formal comment letter was sent to the preparing agency.

EIS No. 20070337, ERP No. F-TVA-E39069-AL, Bear Creek Dam Leakage Resolution Project, To Modify Dam and Maintain Summer Pool Level of 576 Feet, Bear Creek Dam, Franklin County, AL.

Summary: EPA continues to have environmental concern about wetland impacts, and requested that appropriate buffers be established at highly erodible areas along the new shoreline to filter runoff into the reservoir until wetlands are re-established.

EIS No. 20070340, ERP No. F-FRC-G03034-00, Southeast Expansion Project, Construction and Operation of 110.8 miles for Natural Gas Pipeline and Associated Ancillary Facilities, TX and LA.

Summary: No formal comment letter was sent to the preparing agency.

EIS No. 20070350, ERP No. F-NPS-D61059-PA, Valley Forge National Historical Park, General Management Plan, Implementation, King of Prussia, PA.

Summary: EPA does not object to the proposed project.

EIS No. 20070301, ERP No. LD-COE-G39050-LA, Mississippi River—Gulf Outlet (MRGO) Deep-Draft Navigation De-Authorization Study, Implementation, St. Bernard Parish, LA.

Summary: EPA does not object to the preferred alternative. Rating LO.

Dated: September 17, 2007.
Robert W. Hargrove,
Director, NEPA Compliance Division, Office of Federal Activities.

[FR Doc. 07-4699 Filed 9-20-07; 8:45 am]

BILLING CODE 6560-50-M